DEPARTMENT OF COMMERCE

Foreign-Trade Zones Board

[B-39-2024]

Foreign-Trade Zone (FTZ) 75, Notification of Proposed Production Activity; LG Energy Solution Arizona, Inc.; (Cylindrical Lithium-Ion Battery Cells and Lithium Iron Phosphate Pouch-Type Batteries); Queen Creek, Arizona

The City of Phoenix, grantee of FTZ 75, submitted a notification of proposed production activity to the FTZ Board (the Board) on behalf of LG Energy Solution Arizona, Inc. (LGESAI), for LGESAI's facilities in Queen Creek, Arizona within Subzone 75V. The notification conforming to the requirements of the Board's regulations (15 CFR 400.22) was received on July 8, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: cylindrical lithium-ion battery cells and lithium-iron phosphate pouch-type batteries (duty-rate 3.4%).

The proposed foreign-status materials/components include: anode conductive agents; cathode conductive agents; N-methyl-2-pyrrolidone (NMP) [solvent]; insulation solution comprised of NMP, based aluminum oxide hydroxide, tannic acid, polyvinylidene fluoride and, styrene butadiene rubber solution; anode active material comprised of artificial and natural graphite and, silicon monoxide (SiO); cathode active materials comprised of lithium nickel manganese cobalt oxides and lithium, iron and, phosphoric acid (LFP(LiFePO4); conductive agents comprised of NMP base, multi-wall carbon nano tube, water based single-wall carbon nano tube; electrolytes comprised of lithium hexafluorophosphate, ethylene, dimethyl, ethyl methyl and vinylene carbonates and, ethylene sulfate); cathode binders comprised of polyvinylidene fluoride; anode additives comprised of carboxymethyl cellulose; insulation tapes; jelly roll tapes; seal tapes; stack cell tapes; separators comprised of polyethylene alumina (Al2O3) coated, polyethylene film and, polypropylene film); pouch; anode binders; styrene-butadiene rubber; cathode additives; copper or nickel-plated copper anode current collectors; copper foil; aluminum foil; aluminum cathode current collectors; aluminum and nickel-plated steel riveting can; stainless steel ventilation assemblies; lead assembly electrode current collectors comprised of aluminum cathodes, copper anode, or nickel-plated copper); and, polypropylene top insulators (duty rate ranges from duty-free to 6.5%).

The request indicates that the materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is August 26, 2024.

A copy of the notification will be available for public inspection in the “Online FTZ Information System” section of the Board's website.

For further information, contact Christopher Wedderburn at Chris.Wedderburn@trade.gov.

Dated: July 10, 2024.
Elizabeth Whiteman,
Executive Secretary.

[FR Doc. 2024-15599 Filed 7-15-24; 8:45 am]

BILLING CODE 3510-DS-P